DEPARTMENT OF HEALTH AND HUMAN SERVICES

Centers for Disease Control and Prevention

Disease, Disability, and Injury Prevention and Control Special Emphasis Panel (SEP)—SIP24-009, Arthritis Management and Wellbeing Network (AMWN); Corrected Notice of Closed Meeting

AGENCY: Centers for Disease Control and Prevention, Department of Health and Human Services.

ACTION: Notice.

FOR FURTHER INFORMATION CONTACT: Natalie Brown, M.P.H., Scientific Review Officer, National Center for Chronic Disease Prevention and Health Promotion, Centers for Disease Control and Prevention, 4770 Buford Highway, Mailstop S106-3, Atlanta, Georgia 30341-3717. Telephone: (404) 639-4601; email: NBrown3@cdc.gov.

SUPPLEMENTARY INFORMATION: Notice is hereby given of a change in the meeting of the Disease, Disability, and Injury Prevention and Control Special Emphasis Panel (SEP)—SIP24-009, Arthritis Management and Wellbeing Network (AMWN); May 15, 2024, 10 a.m.-6 p.m., EDT, teleconference/web conference, in the original Federal Register notice. The meeting notice was published in the Federal Register on February 13, 2024, 89 FR 10080.

This meeting notice is being corrected to change the Notice of Funding Opportunity (NOFO) title and should read as follows:

Name of Committee: Disease, Disability, and Injury Prevention and Control Special Emphasis Panel (SEP)—SIP24-009, Arthritis Management and Wellbeing Research Network (AMWRN).

The meeting is closed to the public.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-06058 Filed 3-21-24; 8:45 am]

BILLING CODE 4163-18-P